DEPARTMENT OF ENERGY

Federal Energy Regulatory Commission

18 CFR Chapter I

[Docket No. RM01-12-000]

Electricity Market Design and Structure; Notice of Availability of Strawman Discussion Paper

February 1, 2002.

AGENCY: Federal Energy Regulatory Commission, DOE.

ACTION: Availability of strawman discussion paper.

SUMMARY: On January 24, 2002, the Federal Energy Regulatory Commission issued a Notice of Technical Conference to discuss issues relating to the Commission's consideration of standard market design for wholesale electric power markets. The Commission is making available a strawman discussion paper for discussion by the market power mitigation panel at the technical conference and is inviting comments on this paper. This paper is being placed in the record of this rulemaking docket.

DATES: Comments are invited at anytime.

ADDRESSES: Office of the Secretary, Federal Energy Regulatory Commission, 888 First Street, NE., Washington, DC 20426.

FOR FURTHER INFORMATION CONTACT: Connie Caldwell, Office of General Counsel, (202) 208-2027.

SUPPLEMENTARY INFORMATION: On January 24, 2002, the Commission issued a Notice of Technical Conference. This notice was published in the Federal Register on January 31, 2002 (67 FR 4713).

Take notice that Chairman Pat Wood, III has distributed a strawman discussion paper for discussion by the market power mitigation panel at the technical conference scheduled for February 5-7, 2002. The purpose of the paper is to stimulate public discussion that can guide market monitoring efforts and the design of market power mitigation measures. The paper does not necessarily reflect the views of the Commissioners or the Commission staff.

The discussion paper is being placed in the record of this rulemaking docket and this notice will be placed in the record of the dockets listed on the attachment to this notice. The discussion paper will also be available on the Commission's website at http://www.ferc.fed.us/Electric/RTO/mrkt-strct-comments/rm01-12-comments.htm. Comments on this paper are invited, and may be combined with any future comments filed in this rulemaking docket. It would be helpful, but not required, to set apart comments on this paper under a separate heading or in a separate section if they are included in a single document with comments that address other aspects of the rulemaking.

Magalie R. Salas,
Secretary.

Attachment

[Docket No. RT01-2-001]

PJM Interconnection, L.L.C.

Allegheny Electric Cooperative, Inc.

Atlantic City Electric Company

Baltimore Gas & Electric Company

Delmarva Power & Light Company

Jersey Central Power & Light Company

Metropolitan Edison Company

PECO Energy Company

Pennsylvania Electric Company

PPL Electric Utilities Corporation

Potomac Electric Power Company

Public Service Electric & Gas Company

UGI Utilities Inc.

[Docket No. RT01-10-000]

Allegheny Power

[Docket No. RT01-15-000]

Avista Corporation

Montana Power Company

Nevada Power Company

Portland General Electric Company

Puget Sound Energy, Inc.

Sierra Pacific Power Company

[Docket No. RT01-34-000]

Southwest Power Pool, Inc.

[Docket No. RT01-35-000]

Avista Corporation

Bonneville Power Administration

Idaho Power Company

Montana Power Company

Nevada Power Company

PacifiCorp

Portland General Electric Company

Puget Sound Energy, Inc.

Sierra Pacific Power Company

[Docket No. RT01-67-000]

GridFlorida LLC

Florida Power & Light Company

Florida Power Corporation

Tampa Electric Company

[Docket No. RT01-74-000]

Carolina Power & Light Company

Duke Energy Corporation

South Carolina Electric & Gas Company

GridSouth Transco, LLC

[Docket No. RT01-75-000]

Entergy Services, Inc.

[Docket No. RT01-77-000]

Southern Company Services, Inc.

[Docket No. RT01-85-000]

California Independent System Operator Corporation

[Docket No. RT01-86-000]

Bangor Hydro-Electric Company

Central Maine Power Company

National Grid USA

Northeast Utilities Service Company

The United Illuminating Company

Vermont Electric Power Company

ISO New England Inc.

[Docket No. RT01-87-000]

Midwest Independent System Operator

[Docket No. RT01-88-000]

Alliance Companies

[Docket No. RT01-94-000]

NSTAR Services Company

[Docket No. RT01-95-000]

New York Independent System Operator, Inc.

Central Hudson Gas & Electric Corporation

Consolidated Edison Company of New York, Inc.

Niagara Mohawk Power Corporation

New York State Electric & Gas Corporation

Orange & Rockland Utilities, Inc.

Rochester Gas & Electric Corporation

[Docket No. RT01-98-000]

PJM Interconnection, L.L.C.

[Docket No. RT01-99-000]

Regional Transmission Organizations

[Docket No. RT01-100-000]

Regional Transmission Organizations

[Docket Nos. RT02-1-000, EL02-9-000]

Arizona Public Service Company

El Paso Electric Company

Public Service Company of New Mexico

Tucson Electric Power Company

WestConnect RTO, LLC

[Docket Nos. ER96-2495-015, ER97-4143-003, ER97-1238-010, ER98-2075-009, ER98-542-005]

AEP Power Marketing, Inc.

AEP Service Corporation

CSW Power Marketing, Inc.

CSW Energy Services, Inc.

Central and South West Services, Inc.

[Docket No. ER91-569-009]

Entergy Services, Inc.

[Docket No. ER97-4166-008]

Southern Company Energy Marketing, L.P.

[FR Doc. 02-2975 Filed 2-12-02; 8:45 am]

BILLING CODE 6717-01-P